DEPARTMENT OF TRANSPORTATION

Maritime Administration

46 CFR Parts 232, 281, 287, 295, 298, 310, 355, 380 and 390

[Docket Number: MARAD-2003-16238]

RIN 2133-AB56

Electronic Options for Transmitting Certain Information Collection Responses to MARAD

AGENCY: Maritime Administration, Department of Transportation.

ACTION: Interim Final Rule with request for comments.

SUMMARY: The Maritime Administration (MARAD) is publishing this interim final rule to immediately offer electronic submission options and to solicit comments from respondents regarding the offering of electronic options for submission of information that is collected from them under the approved information collections identified in this interim final rule. These information collections are needed by MARAD in order to conduct business between MARAD and the respondents. This action is part of MARAD's implementation of the Government Paperwork Elimination Act (GPEA). Questions about transmitting one information collection will not necessarily impact transmission decisions on another collection unless that same comment is made and is determined to be applicable for another collection.

Dates: This interim final rule is effective November 5, 2003. However, MARAD will consider comments received not later than December 5, 2003.

ADDRESSEs: Comments should refer to the docket number that appears on the top of this document. Written comments may be submitted to the Docket Clerk, U.S. DOT Dockets, Room PL-401, 400 Seventh Street, SW., Washington, DC 20590. Comments may also be submitted by electronic means via the Internet at http://dmses.dot.gov/submit. Note that all comments received will be posted without change including any personal information provided in the comment. All comments received will be available for examination at the above address between 10 a.m. and 5 p.m. ET, Monday through Friday, except Federal holidays. An electronic version of this document is available on the World Wide Web at http://dms.dot.gov.

For Further Information Contact: Richard Weaver, Director, Office of Management and Information Services, Maritime Administration, MAR-310, Room 7301, 400 Seventh Street, SW., Washington, DC 20590; telephone: (202) 366-2811; FAX: (202) 366-3889, or e-mail: richard.weaver@marad.dot.gov.

SUPPLEMENTARY INFORMATION: The MARAD recognizes that information technology and the Internet are transforming the ways we communicate with our customers. Also, expanding E-Government is one of five government-wide initiatives in the President's Management Agenda and includes implementation of the Government Paperwork Elimination Act (GPEA). Under the E-Government initiative, agencies are to offer the option for respondents to transmit by electronic means information collections that are required by those agencies whenever such transmission is practicable. Currently, some of the information collections that are prescribed in 46 CFR parts 200-499 are accepted by MARAD only in paper form or do not lend themselves to electronic transmission. Accordingly, MARAD is soliciting comments on the information collections identified in this interim final rule in order to determine which collections could be transmitted by an electronic medium.

Regulatory Analyses and Notices

Executive Order 12866 and DOT Regulatory Policies and Procedures

This interim final rule is not considered a significant regulatory action under section 3(f) of Executive Order 12886 and, therefore, was not reviewed by the Office of Management and Budget. This interim final rule is not likely to result in an annual effect on the economy of $100 million or more. This interim final rule is also not significant under the Regulatory Policies and Procedures of the Department of Transportation (44 FR 11034, February 26, 1979). The costs and benefits associated with this rulemaking are considered to be so minimal that no further analysis is necessary. The economic impact, if any, should be minimal; therefore further regulatory evaluation is not necessary. This interim final rule is intended only to allow timely as well as fair and efficient employment of electronic transmission technologies for the information collections identified in the interim final rule.

Administrative Procedure Act

The Administrative Procedure Act (5 U.S.C. 553) provides an exception to the notice and comment procedures when they are unnecessary or contrary to the public interest. MARAD finds that under 5 U.S.C. 553(b)(3)(B) good cause exists for not providing notice and comment since this interim final rule only implements the Government Paperwork Elimination Act and merely allows the regulated public an opportunity to submit certain required information via electronic means. However, MARAD will accept comments as indicated in the Comments section above.

Regulatory Flexibility Act

MARAD certifies that this interim final rule will not have a significant economic impact on a substantial number of small entities. This interim final rule only provides the electronic option for transmitting responses to MARAD for the information collections identified in the interim final rule.

Federalism

We have analyzed this interim final rule in accordance with the principles and criteria contained in Executive Order 13132 (Federalism) and have determined that it does not have sufficient federalism implications to warrant the preparation of a federalism summary impact statement. These regulations have no substantial effects on the States, or on the current Federal-State relationship, or on the current distribution of power and responsibilities among the various local officials. Therefore, consultation with State and local officials is not necessary.

Executive Order 13175

MARAD does not believe that this interim final rule will significantly or uniquely affect the communities of Indian tribal governments when analyzed under the principles and criteria contained in Executive Order 13175 (Consultation and Coordination with Indian Tribal Governments). Therefore, the funding and consultation requirements of this Executive Order do not apply.

Environmental Impact Statement

We have analyzed this interim final rule for purposes of compliance with the National Environmental Policy Act of 1969 (42 U.S.C. 4321 et seq.) and have concluded that under the categorical exclusions in section 4.05 of Maritime Administrative Order (MAO) 600-1, “Procedures for Considering Environmental Impacts,” 50 FR 11606 (March 22, 1985), the preparation of an Environmental Assessment, and an Environmental Impact Statement, or a Finding of No Significant Impact for this interim final rule is not required. This interim final rule involves administrative and procedural regulations that have no environmental impact.

Unfunded Mandates Reform Act of 1995

This interim final rule does not impose an unfunded mandate under the Unfunded Mandates Reform Act of 1995. It does not result in costs of $100 million or more, in the aggregate, to any of the following: State, local, or Native American tribal governments, or the private sector. This interim final rule is the least burdensome alternative that achieves the objective of the rule.

Paperwork Reduction Act

This interim final rule contains information collection requirements covered by OMB approval numbers identified in the interim final rule under 5 CFR part 1320, pursuant to the Paperwork Reduction Act of 1995 (44 U.S.C. 3501 et seq.).

List of Subjects

46 CFR Part 232

Maritime Carriers, Reporting and recordkeeping requirements, Uniform System of Accounts.

46 CFR Part 281

Administrative practice and procedure, Grant programs—transportation, Maritime carriers and Reporting and recordkeeping requirements.

46 CFR Part 287

Fishing vessels, Income taxes, Investments, Maritime carriers, Reporting and recordkeeping requirements, Vessels

46 CFR Part 295

Maritime carriers, Reporting and recordkeeping requirements.

46 CFR Part 298

Loan programs—transportation, Maritime carriers, Reporting and recordkeeping requirements.

46 CFR Part 310

Grant programs—education, Reporting and recordkeeping requirements, Schools, Seamen.

46 CFR Part 355

Citizenship and naturalization, Maritime carriers, Reporting and recordkeeping requirements.

46 CFR Part 380

Administrative practice and procedure, Grant programs—transportation, Maritime carriers, Reporting and recordkeeping requirements.

46 CFR Part 390

Income taxes, Investments, Maritime carriers, Reporting and recordkeeping requirements.

Accordingly, 46 CFR Chapter II is amended as follows:

PART 232—UNIFORM FINANCIAL REPORTING REQUIREMENTS

1. The authority citation for part 232 continues to read as follows:

Authority: Sec. 204(b), Merchant Marine Act, 1936, as amended (46 App U.S.C. 1114(b)); 49 CFR 1.66.

2. In § 232.2 revise paragraph (d) to read as follows:

§ 232.2 General instructions.

* * * * *

(d) Submission of questions. A contractor may submit in writing, or by electronic options (such as facsimile and Internet), if practicable, any question involving the interpretation of any provision of this part for consideration and decision to the Director, Office of Financial and Rate Approvals, for the Maritime Security Program, or Director, Office of Ship Financing, for the Maritime Loan Guarantee Program (Title XI), Maritime Administration, Department of Transportation, 400 Seventh Street, SW., Washington, DC 20590. Appeals from such interpretation will be in accordance with the interpretation letter.

* * * * *

3. Section 232.6 is amended by revising paragraphs (a) and (b) to read as follows:

§ 232.6 Financial report filing requirement.

(a) Reporting Frequency and Due Dates. The contractor shall file a semiannual financial report and an annual financial report, in the format referred to in § 232.1(a)(2) of this part, which MARAD shall make available to the contractor. This Form MA-172 (Revised) shall be prepared in accordance with generally accepted accounting principles and modified to the extent necessary to comply with this regulation. The annual financial report shall be reconciled to the financial statements audited by independent certified public accountants (CPAs) licensed to practice by a state or other political subdivision of the United States, or licensed public accountants licensed to practice by regulatory authority or other political subdivision of the United States on or before December 31, 1970. Both the annual and semiannual financial reports shall be due within 120 days after the close of the contractor's annual or semiannual accounting period. If certified (CPA) statements are not available when required, company certified statements are to be submitted within the due dates, and the CPA statements shall be submitted as soon as available. The respondent may, in place of any Schedule(s) contained in the Form MA-172, submit a schedule or schedules from its audited financial statements, or a computer print-out or schedule, consistent with the instructions provided in the MARAD formats. MARAD will accept electronic options (such as facsimile and Internet) for transmission of required information to MARAD, if practicable.

(b) Certification. Annual and semiannual reports shall be approved by the Respondent and Official of Respondent whom MARAD may contact regarding the report in the reporting formats prescribed as the MA-172 submission.

* * * * *

PART 281—INFORMATION AND PROCEDURE REQUIRED UNDER LINER OPERATING-DIFFERENTIAL SUBSIDY AGREEMENTS

4. The authority citation for part 281 continues to read as follows:

Authority: Sec. 204, 49 Stat. 1987, as amended; 46 U.S.C. 1114. Interpret or apply sec. 606, 49 Stat. 2004, as amended; 46 U.S.C. 1176.

5. Section 281.1 is amended by revising paragraph (f) to read as follows:

§ 281.1 Information and procedure required under liner operating-differential subsidy.

* * * * *

(f) Current financial reports. Each operator shall prepare current financial reports as specified in this paragraph and shall submit one copy each to the appropriate Region Director of the Maritime Administration and three copies each to the Director, Office of Financial and Rate Approvals, Maritime Administration, Washington, DC 20590. MARAD will accept electronic options (such as facsimile and Internet) for transmission of required information to MARAD, if practicable.

* * * * *

PART 287—ESTABLISHMENT OF CONSTRUCTION RESERVE FUNDS

6. The authority citation for part 287 continues to read as follows:

Authority: Secs. 204, 511, 49 Stat. 1987, as amended, 54 Stat. 1106, as amended; 46 U.S.C. 1114, 1161.

7. Section 287.4 is amended by revising paragraph (a) to read as follows:

§ 287.4 Application to establish fund.

(a) Any person claiming to be entitled to the benefits of section 511 of the Act may make application, in writing, to the Administration for permission to establish a construction reserve fund. The original application shall be executed and verified by the taxpayer, or if the taxpayer is a corporation, by one of its principal officers, in triplicate, and shall be accompanied by eight conformed copies when filed with the Administration. MARAD will accept electronic options (such as facsimile and Internet) for transmission of required information to MARAD, if practicable.

* * * * *

PART 295—MARITIME SECURITY PROGRAM (MSP)

8. The authority citation for part 295 continues to read as follows:

Authority: 46 App. U.S.C. 1171 et seq., 46 App. U.S.C. 1114 (b), 49 CFR 1.66.

9. Section 295.11 is amended by revising paragraph (b) introductory text to read as follows:

§ 295.11 Applications.

* * * * *

(b) Action by the Applicant. Applicants for MSP Payments shall submit information on the following (Note: MARAD will accept electronic options (such as facsimile and Internet) for transmission of required information to MARAD, if practicable):

* * * * *

10. Section 295.23 is amended by revising the introductory text to read as follows:

§ 295.23 Reporting requirements.

The Contractor shall submit to the Director, Office of Financial and Rate Approvals, Maritime Administration, 400 Seventh St., SW., Washington, DC 20590, one of the following reports, including management footnotes where necessary to make a fair financial presentation [Note: MARAD will accept electronic options (such as facsimile and Internet) for transmission of required information to MARAD, if practicable.]:

* * * * *

PART 298—OBLIGATION GUARANTEES

11. The authority citation for part 298 continues to read as follows:

Authority: 46 App. U.S.C. 1114(b), 1271 et seq.; 49 CFR 1.66.

12. Section 298.3 is amended by revising paragraphs (a) introductory text and (a)(1) to read as follows:

§ 298.3 Applications.

(a) Process and certification. When you apply for a commitment to execute Guarantees, you must:

(1) Complete Form MA-163 and send it to the Secretary, Maritime Administration, U.S. Department of Transportation, 400 Seventh Street, SW., Washington, DC 20590. [Note: MARAD will accept electronic options (such as facsimile and Internet) for transmission of required information (excluding closing documents and documents submitted in connection with defaults) to MARAD, if practicable.]

* * * * *

13. Section 298.13 is amended by revising paragraph (c)(2) introductory text to read as follows:

§ 298.13 Financial requirements.

* * * * *

(c)

(2) Financial Information. You must provide us with financial statements, prepared in accordance with U.S. generally accepted accounting principles (GAAP), and include notes that explain the basis for arriving at the figures except that for Eligible Export Vessels, your financial statements must be in accordance with GAAP if formed in the U.S., or reconciled to GAAP if formed in a foreign country unless a satisfactory justification is provided explaining the inability to reconcile. The financial statements must include the following [Note: MARAD will accept electronic options (such as facsimile and Internet) for transmission of required information to MARAD, if practicable.]:

* * * * *

PART 310—MERCHANT MARINE TRAINING

14. The authority citation for part 310 continues to read as follows:

Authority: 46 App. U.S.C. 1295; 49 CFR 1.66.

15. Section 310.57 is amended by revising paragraph (a) to read as follows:

§ 310.57 Application and selection of midshipmen.

(a) Application. All candidates shall submit an application for admission to the Academy's Admissions Office. Prospective candidates also should submit an application, but are not considered official candidates until their nominations are received. Candidates shall submit with their applications an official transcript and personality record from the candidate's high school and, if applicable, such records from any school attended after high school graduation. Application forms are available upon request by writing to the Admissions Office at the Academy. MARAD will accept electronic options (such as facsimile and Internet) for transmission of only Part I of required information to MARAD, if practicable.

* * * * *

PART 355—REQUIREMENTS FOR ESTABLISHING UNITED STATES CITIZENSHIP

16. The authority citation for part 355 continues to read as follows:

Authority: Secs. 2, 204, 39 Stat. 729, as amended, 49 Stat. 1987, as amended, 73 Stat. 597, 46 U.S.C. 802, 803, 1114, 11

17. Section 355.1 is amended by revising paragraph (b) to read as follows:

§ 355.1 General.

* * * * *

(b) To satisfy the statutory requirements, an Affidavit of U.S. Citizenship of a primary corporation by one of its officers duly authorized to execute such Affidavit, should be submitted. This affidavit should contain facts from which the corporation's citizenship can be determined. MARAD will accept electronic options (such as facsimile and Internet) for transmission of required information to MARAD, if practicable.

* * * * *

PART 380—PROCEDURES

18. The authority citation for part 380 continues to read as follows:

Authority: Sec. 204, 49 Stat. 1987, as amended; 46 U.S.C. 1114.

19. Section 380.22 is amended by revising paragraphs (b) and (c) to read as follows:

§ 380.22 Responsibility.

* * * * *

(b) With respect to books, records, and accounts which, subject to the provision of paragraph (a) of this section, are to be disposed of upon the expiration of the minimum retention period prescribed herein, there shall be filed with the Records Officer, Maritime Administration, Washington, DC 20590, a written notification, at least thirty (30) days prior to the contemplated disposal, requesting permission to dispose of records. MARAD will accept electronic options (such as facsimile and Internet) for transmission of required information to MARAD, if practicable. The request shall be in such form that the books, records, and accounts can be readily identified. Within thirty (30) days after receipt of such notification the Records Officer shall grant approval for disposal, or advise the necessity for continued retention of all or any specified portion thereof. Failure of the Record Officer to reply within the thirty (30) days period following receipt by the Administration of such request shall constitute approval.

(c) Applications for special authority to dispose of certain books, records, and accounts prior to the expiration of prescribed minimum retention periods, and any inquiries as to the interpretation or applicability of this subpart to specific items shall be submitted to the Records Officer, Maritime Administration. MARAD will accept written or electronic options (such as facsimile and Internet) for transmission of required information to MARAD, if practicable. The applicant shall describe in detail the items to be disposed of and explain why continued retention is unnecessary.

20. Section 380.23 is revised to read as follows:

§ 380.23 Supervision of Records.

(a) Contractors and others subject to the provisions of this subpart shall designate, through formal action, the official company position by title, the incumbent of which shall be responsible for supervision of its document retention and disposal program. Immediately upon designation of the position, a copy of the formal action and name of the incumbent shall be filed with the Records Officer, Maritime Administration. MARAD will accept written or electronic options (such as facsimile and Internet) for transmission of required information, if practicable.

(b) The person in charge of the retention and disposal program shall maintain a record of all books, records, and accounts held in storage, and in such form that the items and their location are readily identifiable. A copy of the written, or by electronic options (such as facsimile and Internet), if practicable, notification requesting permission to dispose of any books, records, and accounts, and the original approval from the Administration, as required in § 380.22(b), together with a statement showing date, place and method of disposal will suffice as a record of such disposed items. These retention and disposal records shall be available at all times for inspection by Administration officials and auditors.

PART 390—CAPITAL CONSTRUCTION FUND

21. The authority citation for part 390 continues to read as follows:

Authority: Secs. 204(b) and 607, Merchant Marine Act, 1936, as amended (46 App. U.S.C. 1114(b) and 1177); 49 CFR 1.66.

22. Section 390.2 is amended by revising paragraph (a)(1) to read as follows:

§ 390.2 Application for an agreement.

(a) In general—(1) Application instructions. The Maritime Administrator has adopted instructions for making application for an agreement. These instructions are contained in appendix I to this part. MARAD will accept electronic options (such as facsimile and Internet) for transmission of required information to MARAD, if practicable.

* * * * *

Dated: October 30, 2003.
By Order of the Maritime Administrator.
Joel C. Richard,
Secretary, Maritime Administration.

[FR Doc. 03-27761 Filed 11-4-03; 8:45 am]

BILLING CODE 4910-81-P